DEPARTMENT OF HEALTH AND HUMAN SERVICES

Administration for Children and Families

Request for Information

AGENCY: Office of Child Support Enforcement (OCSE), Administration for Children and Families, HHS.

ACTION: Notice of request for information.

SUMMARY: The Administration for Children and Families (ACF) published a notice in the Federal Register on October 23, 2014, (79 FR 63406) requesting public comments to inform its upcoming Report to Congress. The Report to Congress is required to be submitted no later than June 30, 2015, under title III, section 305 of H.R. 4980 (Pub. L. 113-183), Preventing Sex Trafficking and Strengthening Families Act of 2014. ACF stated in the notice that the request for information would remain open until December 22, 2014, for the receipt of public comments. To provide the public with more time to comment, ACF extends the period of time for which the comments will remain open.

To provide clarification on the first bullet point under the Background Section, which was truncated in the first Federal Register Notice, please consider the following: A review of the effectiveness of state child support programs and collection practices and an analysis of the extent to which the practices result in unintended consequences or performance issues.

DATES: Comments must be received by 11:59 p.m. on February 27, 2015, to be considered.

FOR FURTHER INFORMATION CONTACT: The Office of Child Support Enforcement at OCSEreport@acf.hhs.gov.

Dated: December 19, 2014.
Donna Bonar,
Deputy Comissioner, Office of Child Support Enforcement.

[FR Doc. 2014-30285 Filed 12-24-14; 8:45 am]

BILLING CODE 4184-01-P